DEPARTMENT OF AGRICULTURE

Forest Service

Flathead County Resource Advisory Committee

AGENCY: Forest Service, USDA.

ACTION: Notice of meeting.

SUMMARY: The Flathead County Resource Advisory Committee will meet in Kalispell, Montana July 16 and July 29. The purpose of the meeting is to discuss potential Title II projects for fiscal year 2003 funded by the Secure Rural Schools and Community Self Determination Act.

DATES: The meetings will be held July 16 from 3 pm until 6 pm. and July 29 from 3 pm until 6 pm.

ADDRESSES: The meeting will be held at the Flathead National Forest Supervisors Office, Conference Rooms A & B, 1935 Third Ave East, Kalispell, Montana, 59901.

FOR FURTHER INFORMATION CONTACT: Allen Rowley, Flathead National Forest Public Affairs Specialist, (406) 758-5252.

SUPPLEMENTARY INFORMATION: The meeting is open to the public. These are the first two meetings of the Flathead County Resource Advisory Committee. Time will be allocated for public input on potential projects the committee may be discussing.

Allen Rowley,
Public Affairs Specialist.

[FR Doc. 02-16128 Filed 6-25-02; 8:45 am]

BILLING CODE 3410-11-M